DEPARTMENT OF ENERGY

Federal Energy Regulatory Commission

[Project Nos. 2426-218; 14579-000; 14580-000]

California Department of Water Resources; Notice of Applications Accepted for Filing, Soliciting Motions To Intervene and Protests, Ready for Environmental Analysis, and Soliciting Comments, Recommendations, and Terms and Conditions

Take notice that the following hydroelectric application has been filed with the Commission and is available for public inspection.

a. Type of Applications: Amendment of License and Conduit Exemptions.

b. Project Nos.: 2426-218, 14579-000, & 14580-000.

c. Date Filed: January 15, 2014.

d. Applicant: California Department of Water Resources.

e. Name of Projects: South SWP Hydropower Project, Alamo Powerplant Project, and Mojave Siphon Powerplant Project.

f. Location: The South SWP Hydropower Project is located on the California Aqueduct in San Bernardino, Los Angeles, San Luis Obispo, Ventura, and Kern Counties, California. The project occupies U.S. lands administered by the U.S. Forest Service.

g. Filed Pursuant to: Federal Power Act, 16 U.S.C. 791 (a)-825(r).

h. Applicant Contact: Ted Craddock, Chief, Hydropower License Planning and Compliance Office, California Department of Water Resources, P.O. Box 942836, Sacramento, California 94236-0001, telephone: (316) 263-0261.

i. FERC Contact: Christopher Chaney, telephone (202) 502-6778 or email: christopher.chaney@ferc.gov.

j. Deadline for filing comments, motions to intervene, and protests: 60 days from the issuance of this notice by the Commission; reply comments are due 105 days from the issuance of this notice by the Commission. The Commission strongly encourages electronic filing. Please file any motion to intervene, protest, comments, and/or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket numbers P-2426-218, P-14579-000, and P-14580-000.

k. Description of Request: We consider the applications filed on January 15, 2014, as consisting of three requests: An application for amendment of license under P-2426 and two applications for conduit exemptions under P-14579 and P-14580. The applicant is not proposing any changes to the project operations or facilities, and no ground disturbing activity will occur.

i. Amendment of License: The applicant proposes to amend the South SWP Hydropower Project license to remove the Alamo Powerplant and Mojave Siphon Powerplant from the project. Concurrent with the amendment, the licensee proposes to convert the two powerplants to conduit exemptions as described below. This would result in a decrease of 49,400 kilowatts in the installed capacity from 1,679,100 kilowatts to 1,629,700 kilowatts, and a decrease of approximately 270 acres in the acreage encompassed by the project boundary.

ii. Conduit Exemptions: The Alamo Powerplant Project would consist of: (1) The existing Alamo Powerplant containing one existing generating unit with an installed capacity of 17,000 kilowatts; and (2) appurtenant facilities. The applicant estimates the project would have an average annual generation of 83.751 gigawatt-hours. The Mojave Siphon Powerplant Project would consist of: (1) The existing Mojave Siphon Powerplant containing three generating units with an installed capacity of 10,800 kilowatts each, for a total installed capacity of 32,400 kilowatts; and (2) appurtenant facilities. The applicant estimates the project would have an average annual generation of 65.678 gigawatt-hours.

l. Locations of the Application: This filing may be viewed on the Commission's Web site at http://www.ferc.gov/docs-filing/elibrary.asp. Enter the docket number P-2426, P-14579, or P-14580 in the docket number field to access the documents. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above and at the Commission's Public Reference Room, located at 888 First Street NE., Room 2A, Washington, DC 20426, or by calling (202) 502-8371.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: June 6, 2014.
Kimberly D. Bose,
Secretary.

[FR Doc. 2014-13732 Filed 6-11-14; 8:45 am]

BILLING CODE 6717-01-P